DEPARTMENT OF HEALTH AND HUMAN SERVICES

National Institutes of Health

Notice of Meeting: Secretary's Advisory Committee on Genetics, Health, and Society

Pursuant to Public Law 92-463, notice is hereby given of the sixteenth meeting of the Secretary's Advisory Committee on Genetics, Health, and Society (SACGHS), U.S. Public Health Service. The meeting will be held from 8:30 a.m. to approximately 11:30 a.m. on Monday, July 7, 2008, and 8 a.m. to approximately 5 p.m. on Tuesday, July 8, 2008, at the Hubert H. Humphrey Building, 200 Independence Avenue SW., Washington, DC 20201. The meeting will be open to the public with attendance limited to space available. The meeting also will be Web cast.

The meeting will involve an exploration of the issues associated with the marketing of personalized genomic information and services directly to consumers. The Committee will hear presentations about these services, including the specificity of information being provided and plans for helping consumers interpret and utilize the results for healthcare decisionmaking, consumer perspectives, the state of the underlying science, and public policy considerations. As part of this exploration, the Committee will adjourn for the afternoon of July 7 to participate in a workshop sponsored by Secretary Leavitt's Personalized Health Care Initiative on Understanding the Needs of Consumers in the Use of Genomic-based Health Information Services. The Committee also will review a proposed action plan for addressing issues associated with the genetics education and training of health professionals and move into the second stage of its priority setting process.

As always, the Committee welcomes hearing from anyone wishing to provide public comment on any issue related to genetics, health and society. Individuals who would like to provide public comment should notify the SACGHS Executive Secretary, Ms. Sarah Carr, by telephone at 301-496-9838 or e-mail at carrs@od.nih.gov. The SACGHS office is located at 6705 Rockledge Drive, Suite 750, Bethesda, MD 20892. Anyone planning to attend the meeting who is in need of special assistance, such as sign language interpretation or other reasonable accommodations, is also asked to contact the Executive Secretary.

Under authority of 42 U.S.C. 217a, Section 222 of the Public Health Service Act, as amended, the Department of Health and Human Services established SACGHS to serve as a public forum for deliberations on the broad range of human health and societal issues raised by the development and use of genetic and genomic technologies and, as warranted, to provide advice on these issues. The draft meeting agenda and other information about SACGHS, including information about access to the Web cast, will be available at the following Web site: http://www4.od.nih.gov/oba/sacghs.htm.

Dated: May 16, 2008.
Jennifer Spaeth,
Director, NIH Office of Federal Advisory Committee Policy.

[FR Doc. E8-11792 Filed 5-23-08; 8:45 am]

BILLING CODE 4140-01-P